DEPARTMENT OF THE INTERIOR

National Park Service

[NPS-WASO-NRNHL-12362; PPWOCRADI0, PCU00RP14.R50000]

National Register of Historic Places; Notification of Pending Nominations and Related Actions

Nominations for the following properties being considered for listing or related actions in the National Register were received by the National Park Service before February 9, 2013. Pursuant to § 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by March 20, 2013. Before including your address, phone number, email address, or other personal identifying information in your comment, you should be aware that your entire comment—including your personal identifying information—may be made publicly available at any time. While you can ask us in your comment to withhold your personal identifying information from public review, we cannot guarantee that we will be able to do so.

Dated: February 14, 2013.
J. Paul Loether,
Chief, National Register of Historic Places/National Historic Landmarks Program.

ARIZONA

Maricopa County

Halm, George, House, 1548 W. Northern Ave., Phoenix, 13000105

CALIFORNIA

Los Angeles County

Markham Place Historic District, (Late 19th and Early 20th Century Development and Architecture in Pasadena MPS) Roughly bounded by California St., Pasadena Ave., Bellefontaine St. & Orange Grove Blvd., Pasadena, 13000106

GEORGIA

Morgan County

Hard Labor Creek State Park, Fairplay & Knox Chapel Rds., Rutledge, 13000107

IDAHO

Latah County

Kendrick Fraternal Temple, 614 E. Main, Kendrick, 13000108

IOWA

Lee County

Keokuk Union Depot, 200 Exchange St., Keokuk, 13000109

KENTUCKY

Fayette County

Liggett and Meyers Harpring Tobacco Storage Warehouse, 1211 Manchester St., Lexington, 13000110

Kenton County

Ludlow Theater, The, 322-326 Elm St., Ludlow, 13000111

Knott County

Hindman Historic District, Along Main St. & KY 160, Hindman, 13000112

Shelby County

Buck Creek Rosenwald School, 6712 Taylorsville Rd., Finchville, 13000113

MISSOURI

St. Louis Independent City

Tower Grove East Historic District, (South St. Louis Historic Working and Middle Class Streetcar Suburbs MPS) Roughly bounded by S. Grand, Louisiana, Nebraska, Gravois & Shenandoah Aves., St. Louis (Independent City), 13000114

NEW MEXICO

Mora County

Guadalupita—Coyote Historic District, Roughly Coyote Cr., Guadalupita, 13000115

NEW YORK

Tompkins County

Beach Road Bridge, Beach Rd. crossing W. Branch of Cayuga Inlet, Newfield, 13000103

NORTH CAROLINA

Jackson County

Judaculla Rock, 552 Judaculla Rock Rd., Cullowhee, 13000116

OREGON

Benton County

Irish Bend Covered Bridge No. 14169, (Oregon Covered Bridges TR) SW Campus Way Bike Path, Corvallis, 13000117

Clackamas County

Waverley Country Club Clubhouse, 100 SE. Waverly Dr., Portland, 13000118

Multnomah County

Bennes, John Virginius and Annice, House, 122 SW. Marconi Ave., Portland, 13000119

RHODE ISLAND

Providence County

Edgewood Historic District—Shaw Plat, (Edgewood Neighborhood, Cranston, R.I. MPS) Shaw & Marion Aves., parts of Narragansett Blvd. & Broad St., Cranston, 13000120

TENNESSEE

Davidson County

Kennedy, Thomas P. Jr., House (Boundary Increase), (Forest Hills, Tennessee MPS) 6231 Hillsboro Pike, Forest Hills, 13000121

Giles County

Bodenham Mill, 690 Bodenham Rd., Pulaski, 13000122

Montgomery County

Allen House (Boundary Increase), (Historic Family Farms in Middle Tennessee MPS) 2401 & 2409 Allen Griffey Rd., Clarksville, 13000123

Sumner County

Moye Boarding House, NE. corner of Wheeler & N. Russell Sts., Portland, 13000124

Tipton County

Oak Hill Farm, 1280 Keeling Rd., Stanton, 13000125

TEXAS

Tarrant County

Fort Worth Warehouse and Transfer Company Building, 201 S. Calhoun St., Fort Worth, 13000126

UTAH

Garfield County

Escalante Historic District, Roughly bounded by 300 North, 300 East, 300 South, 300 & 400 West Sts., Escalante, 13000127

WISCONSIN

Sheboygan County

SILVER LAKE (scow-schooner) Shipwreck, (Great Lakes Shipwreck Sites of Wisconsin MPS) 7 mi. NE. of Sheboygan in L. Michigan, Mosel, 13000128

[FR Doc. 2013-04974 Filed 3-4-13; 8:45 am]

BILLING CODE 4312-51-P